INTERNATIONAL TRADE COMMISSION

[Investigation No. 332-565]

American Manufacturing Competitiveness Act: Effects of Temporary Duty Suspensions and Reductions on the U.S. Economy Proposed Information Collection; Comment Request; and MTB Effects Questionnaire

AGENCY: United States International Trade Commission.

ACTION: Notice.

SUMMARY: In accordance with the provisions of the Paperwork Reduction Act of 1995, the U.S. International Trade Commission (Commission) hereby gives notice that it plans to submit a request for approval of a questionnaire to the Office of Management and Budget (OMB) for review and requests public comment on its draft proposed collection.

DATES: To ensure consideration, written comments must be submitted on or before November 23, 2018.

ADDRESSES: The project leader for this investigation is Kimberlie Freund. Please direct all written comments to mtbeffects@usitc.gov or via U.S. mail at U.S. International Trade Commission, 500 E Street SW, Washington, DC 20436.

Additional Information: Copies of the draft questionnaire and other supplementary documents may be downloaded from the USITC website at https://www.usitc.gov/MTBEffects. For any questions about this notice, email mtbeffects@usitc.gov or call the project leader for this investigation, Kimberlie Freund (202-708-5402). Hearing-impaired individuals may obtain information on this matter by contacting the Commission's TDD terminal at 202-205-1810. General information concerning the Commission may also be obtained by accessing its website (http://www.usitc.gov).

Purpose of Information Collection: The information requested by the questionnaire is for use by the Commission in connection with preparing the report required by section 4 of the American Manufacturing Competitiveness Act of 2016 (AMCA), 19 U.S.C. 1332 note. The Commission is instituting Investigation No. 332-565, American Manufacturing Competitiveness Act: Effects of Temporary Duty Suspensions and Reductions on the U.S. Economy, for the purpose of preparing this report. Section 4 of the AMCA requires the Commission, upon enactment of a miscellaneous tariff bill, to prepare and submit to the House Committee on Ways and Means and the Senate Committee on Finance (hereinafter Committees) a report on the effects on the U.S. economy of duty suspensions and reductions enacted pursuant to the AMCA, including a broad assessment of the economic effects of such duty suspensions and reductions on producers, purchasers, and consumers in the United States, using case studies describing such effects on selected industries or by type of article as available data permit. The AMCA also requires the Commission to solicit and append to the report recommendations with respect to those domestic industry sectors or specific domestic industries that might benefit from permanent duty suspensions and reductions, either through a unilateral action of the United States or through negotiations for reciprocal tariff agreements, with a particular focus on inequities created by tariff inversions. As part of any such assessment, the Commission intends to survey U.S. firms that have successfully petitioned for duty suspensions and reductions and those commenting on their petitions about the effects of these duty suspensions and reductions on U.S. firms. The AMCA requires the Commission to submit its report 12 months after enactment of a miscellaneous tariff bill.

Summary of Proposal

(1) Number of forms submitted: 1.

(2) Title of form: American Manufacturing Competitiveness Act: Effects of Temporary Duty Suspensions and Reductions on the U.S. Economy.

(3) Type of request: New.

(4) Frequency of use: Industry questionnaire, single data gathering.

(5) Description of respondents: Members of the public who filed petitions with respect to products that are the subject of a miscellaneous tariff bill, as well as members of the public who commented on the petitions filed.

(6) Estimated number of respondents: 750.

(7) Estimated total number of hours to complete the questionnaire per respondent: 2 hours.

(8) Information obtained from the questionnaire that qualifies as confidential business information will be so treated by the Commission and not disclosed in a manner that would reveal the individual operations of a firm.

SUPPLEMENTARY INFORMATION:

I. Abstract

Section 4 of the AMCA directs the Commission to submit to the House Committee on Ways and Means and the Senate Committee on Finance “a report on the effects on the United States economy of duty suspensions and reductions enacted pursuant to this Act including a broad assessment of the economic effects of such duty suspensions and reductions on producers, purchasers and consumers in the United States using case studies describing such effects on selected industries or by type of article as available data permit.” The AMCA also directs the Commission to solicit and include in the report “recommendations with respect to those domestic industry sectors or specific domestic industries that might benefit from permanent duty suspensions and reductions, either through a unilateral action of the United States or [through] negotiations for reciprocal tariff agreements, with a particular focus on inequities created by tariff inversions.” The questionnaire will collect information in response to these elements.

II. Method of Collection

Respondents will be mailed a letter with a link and individual code for accessing the online form. Respondents may also request a fillable form. Once the online form is complete, respondents will be directed to submit the form by selecting a submit button. When respondents complete a fillable form, they may submit it by uploading it to a secure webserver, emailing it to the study team at mtbeffects@usitc.gov, faxing it, or mailing a hard copy to the Commission.

III. Request for Comments

Comments are invited on (1) whether the proposed collection of information is necessary; (2) the accuracy of the agency's estimate of the burden (including hours and cost) of the proposed collection of information; (3) ways to enhance the quality, utility, and clarity of the information to be collected; and (4) ways to minimize the burden of the collection of information on respondents, including through the use of automated collection techniques or other forms of information technology.

The draft questionnaire and other supplementary documents may be downloaded from the USITC website at https://www.usitc.gov/MTBEffects.

Comments submitted in response to this notice will be summarized and/or included in the request for OMB approval of this information collection; they will also become a matter of public record.

By order of the Commission.
Issued: September 18, 2018.
Lisa Barton,
Secretary to the Commission.

[FR Doc. 2018-20657 Filed 9-21-18; 8:45 am]

BILLING CODE P